FEDERAL HOUSING FINANCE BOARD

Sunshine Act Meeting Notice; Announcing an Open Meeting of the Board and a Public Hearing on Business Objectives and Practices of Federal Home Loan Bank Unsecured Lending

Time and Date: The meeting of the Board of Directors is scheduled to begin at 2 pm on Wednesday, March 12, 2003. The public hearing will take place immediately following the Board of Directors meeting.

Place: Board Room, Second Floor, Federal Housing Finance Board, 1777 F Street, NW., Washington, DC 20006.

Status: The entire meeting and the public hearing will be open to the public.

Matters to be Considered: 1. At the meeting of the Board of Directors:

• Appointments to the Office of Finance. Part 985 of the Federal Housing Finance Board regulations requires the agency to appoint the members of the Office of Finance board of directors (12 CFR 985.7).

• Appointment of Federal Home Loan Bank Directors. Section 7 of the Federal Home Loan Bank Act (12 U.S.C. 1427) requires the Federal Housing Finance Board to appoint public interest directors to the boards of directors of the Federal Home Loan Banks.

• Financial Expertise Requirements for Certain Federal Home Loan Bank Appointed Directors. Consideration of a proposed rule to ensure that at least one appointive director serving on the board of directors of each Federal Home Loan Bank has financial expertise.

• Delegation of Authority to the Chairperson of the Board of Directors of the Federal Housing Finance Board. Consideration of a resolution setting forth the sense of the Board of Directors about the delegation to the Chairperson.

2. At the hearing:

Business Objectives and Practices of Federal Home Loan Bank Unsecured Lending.

Contact Person for More Information: Mary H. Gottlieb, Paralegal Specialist, Office of General Counsel, by telephone at 202/408-2826 or by electronic mail at gottliebm@fhfb.gov.

Dated: March 5, 2003.
By the Federal Housing Finance Board.
Arnold Intrater,
General Counsel.

[FR Doc. 03-5674 Filed 3-5-03; 5:08 pm]

BILLING CODE 6725-01-P